DEPARTMENT OF COMMERCE

National Oceanic and Atmospheric Administration

[I.D. 032504C]

New England Fishery Management Council; Public Meetings

AGENCY: National Marine Fisheries Service (NMFS), National Oceanic and Atmospheric Administration (NOAA), Commerce

ACTION: Notice of public meetings.

SUMMARY: The New England Fishery Management Council (Council) is scheduling a public meeting of its Groundfish Advisory Panel and its Groundfish Oversight Committee in April, 2004 to consider actions affecting New England fisheries in the exclusive economic zone (EEZ). Recommendations from these groups will be brought to the full Council for formal consideration and action, if appropriate.

DATES: The meetings will be held on April 14, 2004 and April 22, 2004. See SUPPLEMENTARY INFORMATION for specific dates and times.

ADDRESSES: The meetings will both be held at the Holiday Inn, One Newbury Street, Peabody, MA 01960; telephone: (978) 535-4600.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Meeting Dates and Agendas

Wednesday, April 14, 2004 at 9:30 a.m. - Groundfish Advisory Panel Meeting.

The panel will continue to work on developing advice for Framework 40 (FW 40) to the Northeast Multispecies Fishery Management Plan (FMP). The primary purpose of FW 40 is to identify opportunities for use of Category B days-at-sea (DAS). The Advisory Panel will consider opportunities to use these DAS both in Special Access Programs and outside of these programs. The Panel will develop recommendations for all of the restrictions associated with the use of Category B DAS, including requirements for gear, areas, seasons, possession limits, and reporting and monitoring requirements. The Panel may also develop advice for other provisions that are being considered in FW 40, such as changes to the DAS transfer and leasing conservation tax. The Panel's recommendations will be reported to the Groundfish Oversight Committee for consideration at a future meeting. They will consider other business as necessary.

Thursday, April 22, 2004 at 9:30 a.m. - Groundfish Oversight Committee Meeting.

The committee will continue to develop FW 40 to the Northeast Multispecies FMP. The primary purpose of FW 40 is to identify opportunities for use of Category B days-at-sea (DAS), though this framework does include provisions that will modify elements of the DAS leasing and transfer regulations and the allocation of Category B (reserve) DAS. The Committee will consider opportunities to use Category B DAS both in Special Access Programs and outside of these programs. They will consider recommendations from the Groundfish Advisory Panel for all of the restrictions associated with the use of Category B DAS, including requirements for gear, areas, seasons, possession limits, and reporting and monitoring requirements. The Committee will also develop detailed requirements for other provisions that are being considered in FW 40, such as changes to the DAS transfer and leasing conservation tax. They may also discuss other business as necessary. The Council will consider the Committee's recommendations at a future date.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: March 26, 2004.
Alan D. Risenhoover,
Acting Director, Office of Sustainable Fisheries, National Marine Fisheries Service.

[FR Doc. 04-7248 Filed 3-30-04; 8:45 am]

BILLING CODE 3510-22-S